DEPARTMENT OF TRANSPORTATION

Surface Transportation Board

[STB Finance Docket No. 34263]

Chicago SouthShore & South Bend Railroad Co.—Operation Exemption—Illinois Indiana Development Company, LLC

Chicago SouthShore & South Bend Railroad (CSS), a Class III rail carrier, has filed a verified notice of exemption under 49 CFR 1150.41 to operate approximately 6.2 miles of rail line from Illinois Indiana Development, LLC (IIDC). The line extends approximately from 115th Street in Chicago, IL (milepost 0.0) to the Illinois-Indiana state line in Burnham, IL, opposite Hammond, IN (milepost 6.2). CSS certifies that its projected revenues as a result of this transaction will not result in the creation of Class II or Class I rail carrier.

The transaction was scheduled to be consummated on or after October 9, 2002, the effective date of the exemption (7 days after the exemption was filed).

This transaction is related to a concurrently filed verified notice of exemption in STB Finance Docket No. 34262, Illinois Indiana Development Company, LLC—Acquisition and Operation Exemption—Chicago SouthShore & South Bend Railroad Co., wherein IIDC seeks to acquire and operate the above-described line.¹

¹ CSS will have a nonexclusive right to operate over the line. IIDC will retain the right over the line as well.

If the verified notice contains false or misleading information, the exemption is void ab initio. Petitions to revoke the exemption under 49 U.S.C. 10502(d) may be filed at any time. The filing of a petition to revoke will not automatically stay the transaction.

An original and 10 copies of all pleadings, referring to STB Finance Docket No. 34263, must be filed with the Surface Transportation Board, 1925 K Street, NW., Washington, DC 20423-0001. In addition, one copy of each pleading must be served on Rose-Michele Weinryb, Weiner Brodsky, Sidman Kider, PC, 1300 19th Street, NW., 5th Floor, Washington, DC 20036.

Board decisions and notices are available on our Web site at “www.stb.dot.gov.”

Decided: October 24, 2002.
By the Board, David M. Konschnik, Director, Office of Proceedings.
Vernon A. Williams,
Secretary.

[FR Doc. 02-27583 Filed 10-31-02; 8:45 am]

BILLING CODE 4915-00-P